ENVIRONMENTAL PROTECTION AGENCY

[EPA-HQ-OAR-2022-0047; FRL-10259-01-OMS]

Information Collection Request Submitted to OMB for Review and Approval; Comment Request; NSPS for Greenhouse Gas Emissions for New Electric Utility Generating Units (Renewal)

AGENCY: Environmental Protection Agency (EPA).

ACTION: Notice.

SUMMARY: The Environmental Protection Agency has submitted an information collection request (ICR), NSPS for Greenhouse Gas Emissions for New Electric Utility Generating Units (EPA ICR Number 2465.05, OMB Control Number 2060-0685), to the Office of Management and Budget (OMB) for review and approval in accordance with the Paperwork Reduction Act. This is a proposed extension of the ICR, which is currently approved through November 30, 2022. Public comments were previously requested, via the Federal Register, on April 8, 2022 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before October 31, 2022.

ADDRESSES: Submit your comments, referencing Docket ID Number EPA-HQ-OAR-2022-0047, to: (1) EPA online using https://www.regulations.gov/ (our preferred method), or by email to docket@epa.gov, or by mail to: EPA Docket Center, Environmental Protection Agency, Mail Code 28221T, 1200 Pennsylvania Ave. NW, Washington, DC 20460. The EPA's policy is that all comments received will be included in the public docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit: http://www.epa.gov/dockets.

Abstract: The New Source Performance Standards (NSPS) for Greenhouse Gas Emissions for New Electric Utility Generating Units were proposed on June 2, 2014 and promulgated on October 23, 2015. Amendments to 40 CFR part 60, subpart TTTT were proposed on December 6, 2018, but EPA did not finalize amendments to the 2015 final rule. On January 13, 2021, EPA finalized a pollutant-specific significant contribution finding for this source category, which was later vacated and remanded on April 5, 2021. These regulations apply to either newly constructed, modified or reconstructed facilities with electric utility generating units (EGUs), including any steam generating unit, IGCC, or stationary combustion turbine that commenced construction after January 8, 2014 or commenced reconstruction after June 18, 2014. To be considered an EGU the unit must be: (1) capable of combusting more than 250 MMBtu/h heat input of fossil fuel; and (2) serve a generator capable of supplying more than 25 MW net to a utility distribution system (i.e., for sale to the grid). New facilities include those that commenced construction, modification or reconstruction after the date of proposal. This information is being collected to assure compliance with 40 CFR part 60, subpart TTTT. In general, all NSPS standards require initial notifications, performance tests, and periodic reports by the owners/operators of the affected facilities. These notifications, reports, and records are essential in determining compliance, and are required of all affected facilities subject to NSPS.

Form Numbers: None.

Respondents/affected entities: Electric utility generating units.

Respondent's obligation to respond: Mandatory (40 CFR part 60, subpart TTTT).

Estimated number of respondents: 92 (total).

Frequency of response: Initially, quarterly.

Total estimated burden: 3,130 hours (per year). Burden is defined at 5 CFR 1320.3(b).

Total estimated cost: $376,000 (per year), which includes no annualized capital/startup and/or operation & maintenance costs.

Changes in the Estimates: The increase in burden from the most recently approved ICR is due to an adjustment(s). The adjustment increase in burden from the most-recently approved ICR is due to an increase in the number of respondents. Based on our consultation with the Agency's internal industry experts and review of data from EPA's Clean Air Markets Division and the U.S. Energy Information Administration, the electric utility sector is undergoing significant changes and the number of respondents and new sources expected over the next three years has increased significantly from the most recently approved ICR.

Although we are assuming there will be 16 new sources per year subject to 40 CFR part 60, subpart TTTT, there is no change in the capital/startup vs. operation and maintenance (O&M) costs as discussed in section 6(b)(iii) compared with the costs in the most-recently approved ICR. There are no capital/startup and/or O&M costs for this ICR. As described in a previous Federal Register notice (84 FR 25046), this NSPS imposes a minimal information collection burden on affected sources beyond what sources would already be subject to under the authorities of CAA Parts 75 (Acid Rain Program CEM requirements) and 98 (Mandatory GHG Reporting, applicable to EGUs that capture CO2). OMB has previously approved the information collection requirements contained in the existing Part 75 and 98 regulations (40 CFR part 75 and 40 CFR part 98) under the provisions of the Paperwork Reduction Act, 44 U.S.C. 3501 et seq., and has assigned OMB control numbers 2060-0626 and 2060-0629, respectively. Apart from certain reporting costs to comply with the emission standards under the rule, there are no additional information collection costs, as the information required by the rule is already collected and reported by other regulatory programs.

Courtney Kerwin,
Director, Regulatory Support Division.

[FR Doc. 2022-21175 Filed 9-28-22; 8:45 am]

BILLING CODE 6560-50-P